ENVIRONMENTAL PROTECTION AGENCY

[FRL-13129-01-OAR]

Notice of Reinstatement of the Gasoline Volatility Waiver for Ohio

AGENCY: Environmental Protection Agency (EPA).

ACTION: Notice of approval.

SUMMARY: The Environmental Protection Agency (EPA) is announcing its approval of the request from Ohio to reinstate the 1-psi (pound per square inch) volatility waiver within the state.

DATES: February 4, 2026.

FOR FURTHER INFORMATION CONTACT: For information about this notice, contact Lauren Michaels, Office of Transportation and Air Quality, Environmental Protection Agency, 2000 Traverwood Dr., Ann Arbor, MI 48105; telephone number: (734) 214-4640; email address: michaels.lauren@epa.gov.

SUPPLEMENTARY INFORMATION: The EPA is announcing its approval of a request from the Governor of Ohio to reinstate the 1-psi waiver for gasoline-ethanol blends containing 10 percent ethanol (E10). The Governor made this request pursuant to 40 CFR 1090.297.

This request comes after a series of requests and actions relating to gasoline volatility regulations in Ohio over the past four years. On June 10, 2022, the Governor of Ohio requested, pursuant to CAA section 211(h)(5), the removal of the 1-psi gasoline volatility waiver that would otherwise apply to E10 in the summer season.¹ This waiver allows the Reid Vapor Pressure (RVP) of E10 to be 1-psi higher than otherwise allowed for gasoline that does not contain 10 percent ethanol. EPA granted the request on February 29, 2024 and, at the same time, promulgated regulations removing the 1-psi waiver in Ohio beginning April 28, 2025.²

¹ Request from Ohio Governor Mike DeWine (June 10, 2022).

² 89 FR 14746 (February 29, 2024).

In January 2025, the Governor of Ohio petitioned for further delay of the effective date of the removal of the 1-psi waiver.³ The EPA effectuated that change on March 20, 2025, delaying the effective date until April 28, 2026.⁴

³ Petition from Ohio Governor Mike DeWine (January 24, 2025).

⁴ 90 FR 13093 (March 20, 2025).

On October 31, 2025, the Governor of Ohio requested that the EPA reinstate the 1-psi waiver for E10.⁵ After review of the submission, the EPA is reinstating the 1-psi waiver for the state of Ohio. The effective date of the reinstatement of the 1-psi waiver is 90 days after the EPA's written notification to the state approving the reinstatement request.⁶ EPA notified Ohio of its approval on January 28, 2026. Therefore, the effective date of the reinstatement of the 1-psi waiver in Ohio is April 28, 2026. This means that gasoline sold in Ohio that contains 10 percent ethanol can have a finished fuel volatility of 10.0 psi in the summer months. Reinstatement of the 1-psi waiver in Ohio eliminates the need for refiners and distributors to provide a different gasoline blendstock for use in Ohio in the summer months as compared to other surrounding states. Reinstatement of the 1-psi waiver in Ohio does not impact the regulatory requirements for other Midwest states that limit the volatility of E10 in those states, as provided in 40 CFR 1090.215(b)(3).

⁵ Letter from Ohio Governor Mike DeWine (October 31, 2025).

⁶ 40 CFR 1090.297(c)(1).

Aaron Szabo,
Assistant Administrator, Office of Air and Radiation.

[FR Doc. 2026-02229 Filed 2-3-26; 8:45 am]

BILLING CODE 6560-50-P